DEPARTMENT OF THE INTERIOR

National Park Service

[NPS-WASO-NRNHL-25584; PPWOCRAD00, PUC00RP14.R50000]

Request for Nominations for the Cold War Advisory Committee

AGENCY: National Park Service, Interior.

ACTION: Request for nominations.

SUMMARY: The National Park Service (NPS), U.S. Department of the Interior is requesting nominations for qualified persons to serve as members on the Committee.

DATES: Nominations should be received by August 23, 2018.

ADDRESSES: Nominations should be sent to Robie Lange, U.S. Department of the Interior, National Park Service, National Historic Landmarks Program, 1849 C Street NW, MS 2280, Washington, DC 20240-0001, or email robie_lange@nps.gov.

FOR FURTHER INFORMATION CONTACT: Robie Lange, U.S. Department of the Interior, National Park Service, National Historic Landmarks Program, 1849 C Street NW, MS 2280, Washington, DC 20240-0001, or via email at robie_lange@nps.gov, or via telephone (202) 354-2257.

SUPPLEMENTARY INFORMATION: The Cold War Advisory Committee was established by Title VII, Subtitle C, Section 7210(c) of Public Law 111-11, the Omnibus Public Land Management Act of 2009, March 30, 2009 (16 U.S.C. 1a-5 note). The purpose of the Committee is to assist the Secretary of the Interior in the preparation of a national historic landmark theme study to identify sites and resources significant to the Cold War.

The Committee will be composed of nine members, to be appointed by the Secretary, of whom: (1) Three shall have expertise in Cold War history; (2) two shall have expertise in historic preservation; (3) one shall have expertise in the history of the United States; and (4) three shall represent the general public.

We are currently seeking members to represent all categories.

Nominations should be typed and should include a resume providing an adequate description of the nominee's qualifications, including information that would enable the Department of the Interior to make an informed decision regarding meeting the membership requirements of the Committee and permit the Department to contact a potential member. All documentation, including letters of recommendation, must be compiled and submitted in one complete package.

Members of the Committee may serve as special Government employees and be required on an annual basis to complete ethics training and file a Confidential Financial Disclosure Report. Members of the Committee serve without compensation. However, while away from their homes or regular places of business in the performance of services for the Committee as approved by the NPS, members may be allowed travel expenses, including per diem in lieu of subsistence, in the same manner as persons employed intermittently in Government service are allowed such expenses under section 5703 of title 5 of the United States Code.

Public Disclosure of Information: Before including your address, phone number, email address, or other personal identifying information with your nomination, you should be aware that your entire nomination—including your personal identifying information—may be made publicly available at any time. While you can ask us in your nomination to withhold your personal identifying information from public review, we cannot guarantee that we will be able to do so.

Authority: 16 U.S.C. 1a-5 note.

Alma Ripps,
Chief, Office of Policy.

[FR Doc. 2018-15736 Filed 7-23-18; 8:45 am]

BILLING CODE 4312-52-P